DEPARTMENT OF ENERGY

Federal Energy Regulatory Commission

[Docket No. EC00-79-000, et al.]

PG&E Energy Services Corporation, et al.; Electric Rate and Corporate Regulation Filings

April 20, 2000.

Take notice that the following filings have been made with the Commission:

1. PG&E Energy Services Corporation/Enron Energy Services Operations, Inc.

[Docket No. EC00-79-000]

Take notice that on April 17, 2000, PG&E Energy Services Corporation (PG&E ES) and Enron Energy Services Operations, Inc. (EESO) tendered for filing pursuant to Section 203 of the Federal Power Act, 16 U.S.C. 824b (1994), and part 33 of the Commission's regulations, 18 CFR part 33, an Application requesting that the Commission approve the transaction by which EESO will acquire PG&E ES and its jurisdictional facilities.

Comment date: May 17, 2000, in accordance with Standard Paragraph E at the end of this notice.

2. PPL Brunner Island, LLC

[Docket No. EG00-39-000]

Take notice that on April 18, 2000, PPL Brunner Island, LLC (PPL Brunner Island) filed with the Federal Energy Regulatory Commission a copy of the Pennsylvania Public Utility Commission's April 13, 2000 Order finding that the granting of exempt wholesale generator status to PPL Brunner Island: (1) Will benefit consumers; (2) is in the public interest; and (3) does not violate state law.

Comment date: May 11, 2000, in accordance with Standard Paragraph E at the end of this notice. The Commission will limit its consideration of comments to those that concern the adequacy or accuracy of the application.

3. PPL Holtwood, LLC

[Docket No. EG00-40-000]

Take notice that on April 18, 2000, PPL Holtwood, LLC (PPL Holtwood) filed with the Federal Energy Regulatory Commission a copy of the Pennsylvania Public Utility Commission's April 13, 2000 Order finding that the granting of exempt wholesale generator status to PPL Holtwood: (1) Will benefit consumers; (2) is in the public interest; and (3) does not violate state law.

Comment date: May 11, 2000, in accordance with Standard Paragraph E at the end of this notice. The Commission will limit its consideration of comments to those that concern the adequacy or accuracy of the application.

4. PPL Martins Creek, LLC

[Docket No. EG00-41-000]

Take notice that on April 18, 2000, PPL Martins Creek, LLC (PPL Martins Creek) filed with the Federal Energy Regulatory Commission a copy of the Pennsylvania Public Utility Commission's April 13, 2000 Order finding that the granting of exempt wholesale generator status to PPL Martins Creek: (1) Will benefit consumers; (2) is in the public interest; and (3) does not violate state law.

Comment date: May 11, 2000, in accordance with Standard Paragraph E at the end of this notice. The Commission will limit its consideration of comments to those that concern the adequacy or accuracy of the application.

5. PPL Susquehanna, LLC

[Docket No. EG00-43-000]

Take notice that on April 18, 2000, PPL Susquehanna, LLC (PPL Susquehanna) filed with the Federal Energy Regulatory Commission a copy of the Pennsylvania Public Utility Commission's April 13, 2000 Order finding that the granting of exempt wholesale generator status to PPL Susquehanna: (1) Will benefit consumers; (2) is in the public interest; and (3) does not violate state law.

Comment date: May 11, 2000, in accordance with Standard Paragraph E at the end of this notice. The Commission will limit its consideration of comments to those that concern the adequacy or accuracy of the application.

6. PPL Montour, LLC

[Docket No. EG00-44-000]

Take notice that on April 18, 2000, PPL Montour, LLC (PPL Montour) filed with the Federal Energy Regulatory Commission a copy of the Pennsylvania Public Utility Commission's April 13, 2000 Order finding that the granting of exempt wholesale generator status to PPL Montour: (1) Will benefit consumers; (2) is in the public interest; and (3) does not violate state law.

Comment date: May 11, 2000, in accordance with Standard Paragraph E at the end of this notice. The Commission will limit its consideration of comments to those that concern the adequacy or accuracy of the application.

7. Ouachita Power, LLC

[Docket No. EG00-133-000]

Take notice that on April 18, 2000, Ouachita Power, LLC filed with the Federal Energy Regulatory Commission an application for determination of exempt wholesale generator status pursuant to section 32(a)(1) of the Public Utility Holding Company Act of 1935. The applicant is a limited liability company organized under the laws of the State of Delaware that is engaged directly and exclusively in developing, owning, and operating a gas-fired 816 MW (summer rated) combined-cycle power plant near the city of Sterlington, Louisiana, which will be an eligible facility.

Comment date: May 11, 2000, in accordance with Standard Paragraph E at the end of this notice.

8. MidAmerican Energy Company

[Docket No. ES98-48-001]

Take notice that on April 13, 2000, MidAmerican Energy Company (MidAmerican) filed a request for waiver of the Commission's competitive bid or negotiated placement requirements of 18 CFR 34.2 with regards to the issuance and sale of up to $500 million principal amount of bonds, notes, debentures or other evidences of indebtedness. The Commission has previously granted MidAmerican authority to issue and sell such securities in this docket.

Comment date: May 11, 2000, in accordance with Standard Paragraph E at the end of this notice.

9. Kansas City Power & Light Company

[Docket No. ES00-24-000]

Take notice that on April 14, 2000, Kansas City Power & Light Company filed an application with the Federal Energy Regulatory Commission (Commission) seeking authority pursuant to Section 204 of the Federal Power Act, to issue, from time to time, not more than $750 million of short-term debt instruments, with maturity dates of not later than September 30, 2003.

Comment date: May 11, 2000, in accordance with Standard Paragraph E at the end of this notice.

10. Indianapolis Power & Light Company

[Docket No. OA00-4-001]

Take notice that on March 27, 2000, Indianapolis Power & Light Company submitted revised standards of conduct in response to the Commission's February 24, 2000 Order on Standards of Conduct. 90 FERC ¶ 61,174 (2000).

Indianapolis Power & Light Company states that it served copies of the filing on the service list in this proceeding.

Comment date: May 5, 2000, in accordance with Standard Paragraph E at the end of this notice.

11. DPL Energy

[Docket No. ER00-2214-000]

Take notice that on April 14, 2000, DPL Energy (DPLE), tendered for filing Long Term Transaction Agreement with The Dayton Power and Light Company.

Comment date: May 5, 2000, in accordance with Standard Paragraph E at the end of this notice.

12. UtiliCorp United Inc.

[Docket No. ER00-2215-000]

Take notice that on April 17, 2000, UtiliCorp United Inc. (UtiliCorp), tendered for filing a service agreement with El Paso Merchant Energy, L.P., for service under its Non-Firm Point-to-Point open access service tariff for its operating division, Missouri Public Service.

Comment date: May 8, 2000, in accordance with Standard Paragraph E at the end of this notice.

13. UtiliCorp United Inc.

[Docket No. ER00-2216-000]

Take notice that on April 17, 2000, UtiliCorp United Inc. (UtiliCorp), tendered for filing a service agreement with El Paso Merchant Energy, L.P., for service under its Short-Term Firm Point-to-Point open access service tariff for its operating division, Missouri Public Service.

Comment date: May 8, 2000, in accordance with Standard Paragraph E at the end of this notice.

14. Ameren Services Company

[Docket No. ER00-2217-000]

Take notice that on April 17, 2000, Ameren Services Company (ASC), tendered for filing Service Agreements for Firm Point-to-Point Transmission Services between ASC and Edison Mission Marketing and Trading, Inc., and Missouri Joint Municipal Electric Utility Commission (the parties). ASC asserts that the purpose of the Agreements is to permit ASC to provide transmission service to the parties pursuant to Ameren's Open Access Transmission Tariff.

Comment date: May 8, 2000, in accordance with Standard Paragraph E at the end of this notice.

15. Ameren Services Company

[Docket No. ER00-2218-000]

Take notice that on April 17, 2000, Ameren Services Company (ASC), tendered for filing Service Agreements for Non-Firm Point-to-Point Transmission Services between ASC and Edison Mission Marketing and Trading, Inc. and Missouri Joint Municipal Electric Utility Commission (the parties). ASC asserts that the purpose of the Agreements is to permit ASC to provide transmission service to the parties pursuant to Ameren's Open Access Transmission Tariff.

Comment date: May 8, 2000, in accordance with Standard Paragraph E at the end of this notice.

16. Duquesne Light Company

[Docket No. ER00-2219-000]

Take notice that on April 17, 2000, Duquesne Light Company (DLC), tendered for filing a Service Agreement dated April 14, 2000 with Orion Power MidWest under DLC's Open Access Transmission Tariff (Tariff). The Service Agreement adds Orion Power MidWest as a customer under the Tariff.

DLC requests an effective date of April 14, 2000, for the Service Agreement.

Comment date: May 8, 2000, in accordance with Standard Paragraph E at the end of this notice.

17. Duquesne Light Company

[Docket No. ER00-2220-000]

Take notice that on April 17, 2000, Duquesne Light Company (DLC), tendered for filing a Service Agreement dated April 14, 2000 with Orion Power MidWest under DLC's Open Access Transmission Tariff (Tariff). The Service Agreement adds Orion Power MidWest as a customer under the Tariff.

DLC requests an effective date of April 14, 2000, for the Service Agreement.

Comment date: May 8, 2000, in accordance with Standard Paragraph E at the end of this notice.

18. Duquesne Light Company

[Docket No. ER00-2221-000]

Take notice that on April 17, 2000, Duquesne Light Company (DLC), tendered for filing a Service Agreement for Retail Network Integration Transmission Service and a Network Operating Agreement for Retail Network Integration Transmission Service dated April 14, 2000, ECONnergy under DLC's Open Access Transmission Tariff (Tariff). The Service Agreement and Network Operating Agreement adds ECONnergy as a customer under the Tariff.

DLC requests an effective date of April 14, 2000, for the Service Agreement.

Comment date: May 8, 2000, in accordance with Standard Paragraph E at the end of this notice.

19. Kansas City Power & Light Company

[Docket No. ER00-2222-000]

Take notice that on April 17, 2000, Kansas City Power & Light Company (KCPL), tendered for filing a Service Agreement dated March 21, 2000, between KCPL and The Energy Authority, Inc. This Agreement provides for the rates and charges for Non-Firm Transmission Service.

In its filing, KCPL states that the rates included in the above-mentioned Service Agreement are KCPL's rates and charges in the compliance filing to FERC Order 888-A in Docket No. OA97-636.

KCPL proposes an effective date of March 21, 2000 and requests waiver of the Commission's notice requirement.

Comment date: May 8, 2000, in accordance with Standard Paragraph E at the end of this notice.

20. Kansas City Power & Light Company

[Docket No. ER00-2223-000]

Take notice that on April 17, 2000, Kansas City Power & Light Company (KCPL), tendered for filing a Service Agreement dated March 21, 2000, between KCPL and The Energy Authority, Inc. This Agreement provides for the rates and charges for Short-term Firm Transmission Service.

In its filing, KCPL states that the rates included in the above-mentioned Service Agreement are KCPL's rates and charges in the compliance filing to FERC Order No. 888-A in Docket No. OA97-636-000.

KCPL proposes an effective date of March 21, 2000 and requests a waiver of the Commission's notice requirement to allow the requested effective date.

Comment date: May 8, 2000, in accordance with Standard Paragraph E at the end of this notice.

21. Consumers Energy Company

[Docket No. ER00-2224-000]

Take notice that on April 17, 2000, Consumers Energy Company (Consumers), tendered for filing an addendum to various coordination rate schedules that would permit the incremental cost of sulfur dioxide (SO2) emission allowances to be included in the calculation of rates under those rate schedules. The rate schedules affected are: Consumers Energy Company Rate Schedules FERC No. 50, 55 and 67.

The change is designed to conform the rate schedules to the Commission's rules regarding the ratemaking treatment of SO2 emissions allowances for Phase II units issued under the Clean Air Act Amendments of 1990. Copies of the filing were served upon those who receive service under the above-listed rate schedules as well as upon the Michigan Public Service Commission.

Comment date: May 8, 2000, in accordance with Standard Paragraph E at the end of this notice.

22. Duke Energy St. Lucie, LLC

[Docket No. ER00-2225-000]

Take notice that on April 17, 2000, Duke Energy St. Lucie, LLC (Duke St. Lucie), tendered for filing pursuant to Section 205 of the Federal Power Act an application for an order accepting its rates of filing, determining of rates to be just and reasonable, and granting certain waivers and preapprovals.

Duke St. Lucie is developing an approximately 608 MW generation facility located in St. Lucie County, Florida. Under its proposed FERC Electric Tariff No. 1, Duke St. Lucie seeks to sell energy and capacity, as well as ancillary services, at market-based rates. Duke St. Lucie also seeks authority to sell, assign, or transfer transmission rights that it may acquire in the course of its marketing activities.

Comment date: May 8, 2000, in accordance with Standard Paragraph E at the end of this notice.

23. Entergy Services, Inc.

[Docket Nos. ER99-3084-002; ER99-3960-001; ER99-3093-002; ER99-3133-002; ER99-3175-002; ER99-3176-002; ER99-3188-002; ER99-3252-002; ER99-3302-002; ER99-3315-002]

Take notice that on April 14, 2000, Entergy Services, Inc., on behalf of Entergy Arkansas, Inc., Entergy Gulf States, Inc., Entergy Louisiana, Inc., Entergy Mississippi, Inc., and Entergy New Orleans, Inc., tendered for filing compliance generator imbalance agreements, in accordance with the Commission's order in Entergy Services, Inc., 90 FERC ¶ 61,272 (2000).

Comment date: May 5, 2000, in accordance with Standard Paragraph E at the end of this notice.

24. Rio de Este Barge Power LLC

[Docket No. ER00-2070-000]

Take notice that on April 19, 2000, Rio de Este Barge Power, LLC, tendered for filing notice of withdrawal of its Petition for Order Accepting Market Based Rates filed with the Commission on March 31, 2000 in the above-referenced docket.

Comment date: May 10, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-10565 Filed 4-27-00; 8:45 am]

BILLING CODE 6717-01-P